DEPARTMENT OF HOMELAND SECURITY

8 CFR Parts 103, 106, 204, 211, 212, 214, 216, 223, 235, 236, 240, 244, 245, 245a, 248, 264, 274a, 301, 319, 320, 322, 324, 334, 341, 343a, 343b, and 392

[CIS No. 2627-18; DHS Docket No. USCIS-2019-0010]

RIN 1615-AC18

U.S. Citizenship and Immigration Services Fee Schedule and Changes to Certain Other Immigration Benefit Request Requirements

AGENCY: U.S. Citizenship and Immigration Services (USCIS), Department of Homeland Security

ACTION: Proposed rule; reopening of the comment period.

SUMMARY: The Department of Homeland Security (DHS) announces the reopening and extension of the public comment period for the proposed rule titled “U.S. Citizenship and Immigration Services Fee Schedule and Changes to Certain Other Immigration Benefit Request Requirements.” DHS published the rule on November 14, 2019, with a comment period ending December 16, 2019. On December 9, 2019, the comment period was extended to December 30, 2019. DHS will reopen the comment period for an additional 15 days. As part of this rulemaking, DHS will consider comments received during the entire public comment period, including comments received since December 30, 2019.

DATES: The comment period for the proposed rule published November 14, 2019, at 84 FR 62280 and extended on December 9, 2019 at 84 FR 67243, is reopened. Written comments and related material must be submitted on or before February 10, 2020.

ADDRESSES: You must submit comments, identified as DHS Docket No. USCIS-2019-0010, through one of the following methods:

• Federal eRulemaking Portal (preferred): http://www.regulations.gov. Follow the website instructions for submitting comments.

• Mail: Samantha Deshommes, Chief, Regulatory Coordination Division, Office of Policy and Strategy, U.S. Citizenship and Immigration Services, Department of Homeland Security, 20 Massachusetts Avenue NW, Washington, DC 20529-2140. To ensure proper handling, please reference DHS Docket No. USCIS-2019-0010 in your correspondence. Mail must be postmarked by the comment submission deadline.

Comments submitted in a manner other than those listed above, including emails or letters sent to DHS or USCIS officials, will not be considered comments on the proposed rule. Please note that DHS and USCIS cannot accept any comments that are hand delivered or couriered. In addition, USCIS cannot accept mailed comments contained on any form of digital media storage devices, such as CDs/DVDs and USB drives.

FOR FURTHER INFORMATION CONTACT: Kika Scott, Chief Financial Officer, U.S. Citizenship and Immigration Services, Department of Homeland Security, 20 Massachusetts Avenue NW, Washington, DC 20529-2130, telephone (202) 272-8377.

SUPPLEMENTARY INFORMATION:

Public Participation

Interested persons are invited to participate in this rulemaking by submitting written data, views, or arguments on all aspects of this rule. DHS also invites comments that relate to the economic or federalism effects that might result from this rule. Comments that will provide the most assistance to DHS will reference a specific portion of the rule, explain the reason for any recommended change, and include data, information, or authority that support such recommended change.

Instructions: All submissions received must include DHS Docket No. USCIS-2019-0010. Providing comments is entirely voluntary. All comments received will be posted without change to http://www.regulations.gov, including any personal information that you provide. Because the information you submit will be publicly available, you should consider limiting the amount of personal information in your submission. DHS may withhold information provided in comments from public viewing if it determines that such information is offensive or may affect the privacy of an individual. For additional information, please read the Privacy Act notice available through the link in the footer of http://www.regulations.gov.

Docket: For access to the docket, go to http://www.regulations.gov and enter this rulemaking's eDocket number: USCIS-2019-0010. The docket includes additional documents that support the analysis contained in this proposed rule to determine the specific fees that are proposed. These documents include:

• Fiscal Year (FY) 2019/2020 Immigration Examinations Fee Account Fee Review Supporting Documentation;

• Regulatory Impact Analysis: U.S. Citizenship and Immigration Services Fee Schedule and Changes to Certain Other Immigration Benefit Request Requirements; and

• Small Entity Analysis for Adjustment of the U.S. Citizenship and Immigration Services Fee Schedule notice of proposed rulemaking.

You may review these documents on the electronic docket.

Background

On November 14, 2019, DHS published a proposed rule in the Federal Register at 84 FR 62280, wherein DHS proposed, among other things, to adjust certain immigration and naturalization benefit request fees charged by USCIS, add new fees for certain benefit requests, establish multiple fees for petitions for nonimmigrant workers, and limit the number of beneficiaries on certain forms to ensure that USCIS has the resources it needs to provide adequate service to applicants and petitioners.

On December 9, 2019, DHS published a proposed rule; extension of comment period; availability of supplemental information at 84 FR 67243. That document extended the comment period for the proposed rule through December 30, 2019.

This notice reopens and extends the comment period through February 10, 2020, to allow additional time for interested persons to provide comments on the proposed rule. As part of this rulemaking, DHS will consider comments received during the entire public comment period, including comments received since

December 30, 2019.
Chad F. Wolf,
Acting Secretary.

[FR Doc. 2020-01189 Filed 1-23-20; 8:45 am]

BILLING CODE 9111-97-P